DEPARTMENT OF ENERGY

Federal Energy Regulatory Commission

[Docket No. RP01-414-000]

Black Marlin Pipeline Co.; Notice of Compliance Filing

May 15, 2001.

Take notice that on May 9, 2001, Black Marlin Pipeline Company (Black Marlin) tendered for filing certain revised tariff sheets to its FERC Gas Tariff, First Revised Volume No. 1, to comply with the Commission's Order issued on October 27, 2000 in Docket No. RM96-1-014.

Any person desiring to be heard or to protest said filing should file a motion to intervene or a protest with the Federal Energy Regulatory Commission, 888 First Street, NE., Washington, DC 20426, in accordance with sections 385.214 and 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12659 Filed 5-18-01; 8:45 am]

BILLING CODE 6717-01-M